INTERNATIONAL TRADE COMMISSION

[Inv. No. 337-TA-425]

In the Matter of Certain Amino Fluoro Ketone Compounds; Notice of Commission Determination Not To Review an Initial Determination Terminating the Investigation on the Basis of a Consent Order; Issuance of Consent Order

AGENCY: U.S. International Trade Commission.

ACTION: Notice.

SUMMARY: Notice is hereby given that the U.S. International Trade Commission has determined not to review an initial determination (“ID”) (Order No. 12) issued by the presiding administrative law judge (“ALJ”) terminating the above-captioned investigation on the basis of a consent order.

FOR FURTHER INFORMATION CONTACT: Tim Yaworski, Esq., Office of the General counsel, U.S. International Trade Commission, telephone 202-205-3096.

SUPPLEMENTARY INFORMATION: The Commission instituted this patent-based investigation on November 8, 1999, based on a complaint filed by Prototek, Inc., and Enzyme System Products, Inc., (“complainants”), both of California. Complainants alleged violations of section 337 of the Tariff Act of 1930 by reason of the importation and sale of certain amino fluoro ketone compounds that infringe claims 1-6 of U.S. Letters Patent 4,518,528, claim 1 of U.S. Letters Patent 5,210,272, and claim 1 of U.S. Letters Patent 5,344,939. The respondents were Bachem AG of Bubendorf, Switzerland, Bachem California, Inc. of Torrance, California, and Bachem Bioscience of King of Prussia, Pennsylvania.

On May 30, 2000, complainants and respondents filed a joint motion (Motion Docket No. 425-2) to terminate the investigation on the basis of a proposed consent order. The Commission investigative attorney supported the motion. On June 7, 2000, the ALJ issued the subject ID granting the joint motion to terminate the investigation on the basis of the proposed consent order. No petitions for review of the ID were filed.

This action is taken under the authority of section 337 of the Tariff Act of 1930 (19 U.S.C. § 1337) and rule 210.42 of the Commission's Rules of Practice and Procedure (19 CFR § 210.42).

Copies of the public version of the ID and all other nonconfidential documents filed in connection with this investigation are or will be available for inspection during official business hours (8:45 a.m. to 5:15 p.m.) in the Office of the Secretary, U.S. International Trade Commission, 500 E Street, SW, Washington, D.C. 20436, telephone 202-205-2000. Hearing-impaired persons are advised that information can be obtained by contacting the Commission's TDD terminal on 202-205-1810. General information concerning the Commission may also be obtained by accessing its Internet server (http//www.usitc.gov).

Issued: June 26, 2000.
By order of the Commission.
Donna R. Koehnke,
Secretary.

[FR Doc. 00-16593 Filed 6-29-00; 8:45 am]

BILLING CODE 7020-02-P